DEPARTMENT OF HEALTH AND HUMAN SERVICES

Administration for Children and Families

[C.F.D.A. Number: 93.598]

Notice To Award a Grant

AGENCY: Office of Refugee Resettlement, HHS.

SUMMARY: The Office of Refugee Resettlement, Anti-Trafficking in Persons Office, will award a non-competitive grant to Polaris Project, P.O. Box 77892, Washington DC, 20013, in the amount of $394,452 in Fiscal Year 2007 due to urgent and compelling circumstances. The award will be used to improve the systemic response to protect victims of human trafficking in the United States through the Training, Technical Assistance, and Strategic Planning (TTASP) Program.

The specific goal of the TTASP program is to raise the standards of the anti-trafficking field through the development of new and cutting edge strategies, best practices, improved national levels of coordination and strategic planning, and capacity building for the field through practitioner-based training and technical assistance. The services obtained are intended to increase levels of victim identification through the creation of improved direct outreach strategies, enable localized best practice strategies to be shared on a national scale, provide around the clock technical assistance from leading human trafficking experts, and be a resource for strategic planning assistance at the local, State and Federal levels. Services will be provided via a centralized online clearinghouse of training and technical assistance resources, a dedicated technical assistance telephone hotline, on-site training and consulting services, and a peer-to-peer training and strategic planning event.

Grant and Cooperative Agreement Program Authority for this activity is contained in section 106(b) and section 107(b)(1)(B) of the Trafficking Victims Protection Act of 2000 (TVPA), Public Law 106-386, Division A, 114 Stat. 1464 (2000) and in section 412(c)(1)(A) of the Immigration and Nationality Act (INA), (8 U.S.C. 1522(c)(1)(A)).

The Recipient will:

1. Develop anti-trafficking materials covering topics not currently in circulation;

2. Create an online clearing house of training and technical assistance resources, including all TTASP training manuals, briefing materials, model strategic plans, sample outreach materials, user-driven worksheets, and summaries of best practices and model programs;

3. Provide targeted training and technical assistance on effective anti-trafficking strategies to anti-trafficking coalitions, task forces, direct outreach organizations, service providers, and others as needed;

4. Provide around the clock technical assistance via telephone on an emergency or on-demand basis for service providers or law enforcement officials that encounter trafficking victims;

5. Create a comprehensive strategic planning document for use by new and existing anti-trafficking coalitions that consolidates national best practices for implementing anti-trafficking activities at the local level;

6. Provide technical review of third-party materials, including, but not limited to client service protocols and forms, outreach protocols and materials, and organizational training documents; and

7. Provide consulting services to ORR in areas of strategic planning, staying abreast of the latest trends in the field, and any other technical assistance requested.

After the appropriate reviews, it has been determined that the need to improve the systemic response to protect victims of human trafficking in the United States through the training, technical assistance, and strategic planning is urgent and compelling. The project period is September 30, 2007 to September 29, 2010.

FOR FURTHER INFORMATION CONTACT: Vanessa Garza, Office of Refugee Resettlement, Administration for Children and Families, 370 L'Enfant Promenade, SW., Washington, DC 20447, telephone (202) 401-2334.

Dated: August 14, 2007.
Martha E. Newton,
Director, Office of Refugee Resettlement.

[FR Doc. E7-16842 Filed 8-23-07; 8:45 am]

BILLING CODE 4184-01-P